DEPARTMENT OF DEFENSE

Department of the Army

[Docket ID USA-2011-0010]

Privacy Act of 1974; System of Records

AGENCY: Department of the Army, DoD.

ACTION: Notice to alter a system of records.

SUMMARY: Department of the Army is altering a system of records notice in its existing inventory of record systems subject to the Privacy Act of 1974, (5 U.S.C. 552a), as amended.

DATES: This proposed action will be effective without further notice on June 8, 2011 unless comments are received which result in a contrary determination.

ADDRESSES: You may submit comments, identified by docket number and/Regulatory Information Number (RIN) and title, by any of the following methods:

• Federal Rulemaking Portal: http://www.regulations.gov. Follow the instructions for submitting comments.

• Mail: Federal Docket Management System Office, 1160 Defense Pentagon, OSD Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Mr. Leroy Jones at (703) 428-6185, or Department of the Army, Privacy Office, U.S. Army Records Management and Declassification Agency, 7701 Telegraph Road, Casey Building, Suite 144, Alexandria, VA 22325-3905.

SUPPLEMENTARY INFORMATION: Department of the Army notices for systems of records subject to the Privacy Act of 1974 (5 U.S.C. 552a), as amended, have been published in the Federal Register and are available from the FOR FURTHER INFORMATION CONTACT address above.

The proposed system report, as required by 5 U.S.C. 552a(r) of the Privacy Act of 1974, as amended, was submitted on May 3, 2011 to the House Committee on Government Reform, the Senate Committee on Homeland Security and Governmental Affairs, and the Office of Management and Budget (OMB) pursuant to paragraph 4c of Appendix I to OMB Circular No. A-130, “Federal Agency Responsibilities for Maintaining Records About Individuals,” February 20, 1996, 61 FR 6427.

Dated: May 3, 2011.
Morgan F. Park,
Alternate OSD Federal Register Liaison Officer, Department of Defense.

A0350-1b TRADOC

System name:

Army Career Tracker (ACT) (April 30, 2009, 74 FR 19951.)

Changes:

* * * * *

System location:

Delete entry and replace with “Army commands, installations and activities. Addresses for the above may be obtained from the Commander, Headquarters, U.S. Army Training and Doctrine Command, Institute of Noncommissioned Officer Professional Development Office (ATCG-NCN), 5A North Gate Road, Fort Monroe, VA 23651-1048.”

Categories of individuals covered by the system:

Delete entry and replace with “Department of the Army military members and government civilians employed by the Army.”

Categories of records in the system:

Delete entry and replace with “Course and training data to include name, grade/rank/series, Social Security Number (SSN), address, service component, branch, personnel classification, military status, military occupational specialty, credit hours accumulated, examination and lesson course completion status, assignment history, student academic status, curricula, course description, scheduling, testing, academic, graduation, individual goals, personnel and attrition data.”

Authority for maintenance of the system:

Delete entry and replace with “10 U.S.C. 3013, Secretary of the Army; Army Regulation 350-1, Army Training and Leader Development; and E.O. 9397 (SSN), as amended.”

* * * * *

System manager(s) and address:

Delete entry and replace with “Commander, Headquarters, U.S. Army Training and Doctrine Command, Institute of Noncommissioned Officer Professional Development Office (ATCG-NCN), 5A North Gate Road, Fort Monroe, VA 23651-1048.”

Notification procedure:

Delete entry and replace with “Individuals seeking to determine if information about themselves is contained in this system should address written inquiries to the Commander, Headquarters, U.S. Army Training and Doctrine Command, Institute of Noncommissioned Officer Professional Development Office (ATCG-NCN), 5A North Gate Road, Fort Monroe, VA 23651-1048.

Individual should provide full name, Social Security Number (SSN) and military status or other information verifiable from the record itself.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with “Individuals seeking access to information about themselves contained in this system should address written inquiries to the Commander, Headquarters, U.S. Army Training and Doctrine Command, Institute of Noncommissioned Officer Professional Development Office (ATCG-NCN), 5A North Gate Road, Fort Monroe, VA 23651-1048.

Individual should provide full name, Social Security Number (SSN) and military status or other information verifiable from the record itself.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

* * * * *

A0350-1b TRADOC

System name:

Army Career Tracker (ACT).

System location:

Army commands, installations and activities. Addresses for the above may be obtained from the Commander, Headquarters, U.S. Army Training and Doctrine Command, Institute of Noncommissioned Officer Professional Development Office (ATCG-NCN), 5A North Gate Road, Fort Monroe, VA 23651-1048.

Categories of individuals covered by the system:

Department of the Army military members and government civilians employed by the Army.

Categories of records in the system:

Course and training data to include name, grade/rank/series, Social Security Number (SSN), address, service component, branch, personnel classification, military status, military occupational specialty, credit hours accumulated, examination and lesson course completion status, assignment history, student academic status, curricula, course description, scheduling, testing, academic, graduation, individual goals, personnel and attrition data.

Authority for maintenance of the system:

10 U.S.C. 3013, Secretary of the Army; Army Regulation 350-1, Army Training and Leader Development; and E.O. 9397 (SSN), as amended.

Purpose(s):

The Army Career Tracker will receive training, education, experiential learning, personal and biographical data from several Army information systems and present a comprehensive and personalized view of Noncommissioned Officer, Officer, and Army civilian career history, course enrollment, course completion, and course catalog information.

Routine uses of records maintained in the system, including categories of users and the purposes of such uses:

In addition to those disclosures generally permitted under 5 U.S.C. 552a(b) of the Privacy Act if 1974, these records contained therein may specifically be disclosed outside the DoD as a routine use pursuant to 5 U.S.C. 552a(b)(3) as follows:

The DoD `Blanket Routine Uses' set forth at the beginning of the Army's compilation of systems of records notices also apply to this system.

Policies and practices for storing, retrieving, accessing, retaining, and disposing of records in the system:

Storage:

Paper printouts and electronic storage media.

Retrievability:

Individual's name (Army Knowledge Online User Identification).

Safeguards:

Access to the system is restricted to authorized personnel only with Army Knowledge Online sign-on and password authorization. Records are maintained within secured buildings in areas accessible only to persons having an official need-to-know and who therefore are properly trained and screened.

Retention and disposal:

Records on local training and individual goals are maintained until no longer needed for conducting business, but not longer than 6 years, then destroyed. Destroy electronic media by deletion; destroy paper printout by shredding or burning.

System manager(s) and address:

Commander, Headquarters, U.S. Army Training and Doctrine Command, Institute of Noncommissioned Officer Professional Development Office (ATCG-NCN), 5A North Gate Road, Fort Monroe, VA 23651-1048.

Notification procedure:

Individuals seeking to determine if information about themselves is contained in this system should address written inquiries to the Commander, Headquarters, U.S. Army Training and Doctrine Command, Institute of Noncommissioned Officer Professional Development Office (ATCG-NCN), 5A North Gate Road, Fort Monroe, VA 23651-1048.

Individual should provide full name, Social Security Number (SSN) and military status or other information verifiable from the record itself.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Record access procedures:

Individuals seeking access to information about themselves contained in this system should address written inquiries to the Commander, Headquarters, U.S. Army Training and Doctrine Command, Institute of Noncommissioned Officer Professional Development Office (ATCG-NCN), 5A North Gate Road, Fort Monroe, VA 23651-1048.

Individual should provide full name, Social Security Number (SSN) and military status or other information verifiable from the record itself.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Contesting record procedures:

The Army's rules for accessing records, contesting contents and appealing initial agency determinations are contained in Army Regulation 340-21; 32 CFR part 505; or may be obtained from the system manager.

Record source categories:

Information is received from the individual, DoD staff, and personnel and training systems.

Exemptions claimed for the system:

None.

[FR Doc. 2011-11185 Filed 5-6-11; 8:45 am]

BILLING CODE 5001-06-P